DEPARTMENT OF EDUCATION

Grants for the Integration of Schools and Mental Health Systems

AGENCY: Office of Safe and Drug-Free Schools, Department of Education.

ACTION: Notice of proposed requirements.

SUMMARY: The Assistant Secretary for Safe and Drug-Free Schools proposes five requirements for the Grants for the Integration of Schools and Mental Health Systems program. We may use these requirements for competitions in fiscal year (FY) 2006 and later years. We take this action to focus Federal financial assistance on an identified national need. We intend the requirements to improve the linkages among local school systems, local mental health systems, and local juvenile justice systems.

DATES: We must receive your comments on or before April 10, 2006.

ADDRESSES: Address all comments about these proposed requirements to Dana Carr, U.S. Department of Education, 400 Maryland Avenue, SW., room 3E100, Washington, DC 20202-6450. If you prefer to send your comments through the Internet, use the following address: Dana.Carr@ed.gov.

You must include the term “Grants for the Integration of Schools and Mental Health Systems, 215M” in the subject line of your electronic message.

FOR FURTHER INFORMATION CONTACT: Dana Carr. Telephone: (202) 260-0823 or via Internet: Dana.Carr@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed requirements. To ensure that your comments have maximum effect in developing the notice of final requirements, we urge you to identify clearly the specific proposed requirement that each comment addresses.

We invite you to assist us in complying with the specific requirements of Executive Order 12866 and its overall requirement of reducing regulatory burden that might result from these proposed requirements. Please let us know of any further opportunities we should take to reduce potential costs or increase potential benefits while preserving the effective and efficient administration of the program.

During and after the comment period, you may inspect all public comments about these proposed requirements in room 3E242, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed requirements. If you want to schedule an appointment for this type of aid, please contact the person listed under FOR FURTHER INFORMATION CONTACT.

Background

The Grants for the Integration of Schools and Mental Health Systems program seeks to improve the linkages among school, mental health, and juvenile justice systems regarding the provision of mental health services to students. The program supports efforts to develop and strengthen the infrastructure in a State or local educational agency or Indian tribe to improve student access to mental health services by creating relationships and protocols, by providing training for teachers and other staff on a range of related issues, and by involving families in program design and implementation, in a manner that is complementary to and does not duplicate any previous or ongoing efforts.

Funds awarded under this program are intended to improve linkages, to create and enhance the infrastructure between State and local agencies and authorities, and ultimately to improve students' access to mental health services. We believe that improved collaboration and infrastructure development among these entities offers the best opportunity for the development of sustainable mental health services in communities. Program funds should not be used to hire or contract for the services of an outside direct mental health service provider because the cost of these services is significant and would restrict the available funding under the program to a very limited number of sites. Use of Federal funds to pay these costs also would do little to contribute to the program's overall goal of increasing coordinated activities among schools, law enforcement/juvenile justice agencies, and mental health systems that are focused on enhancing State and local sustainable capacity to improve students' access to mental health services.

To facilitate this improved collaboration and infrastructure, the Grants for the Integration of Schools and Mental Health Systems program requires an Interagency Agreement. The Agreement will delineate each entity's responsibilities and describe the interactions between the parties. In addition to the statutorily required components of the Agreement, we propose that recipients adopt procedures for obtaining parental consent before provision of services and for ensuring responsible communication with parents concerning their children's mental health needs and services. Many members of the public have been concerned about parents being excluded from a range of activities related to children's mental health, from screening to treatment. This requirement would help ensure that recipients address these concerns.

We have worked with the Department of Health and Human Services' Substance Abuse and Mental Health Services Administration to develop these proposed requirements; this notice reflects the two agencies' common philosophy and approach.

We will announce the final requirements in a notice in the Federal Register. We will determine the final requirements after considering responses to this notice and other information available to the Department. This notice does not preclude us from proposing or funding additional requirements, subject to meeting applicable rulemaking requirements.

Note: This notice does not solicit applications. In any year in which we choose to use one or more of these requirements, we invite applications through a notice in the Federal Register.

Requirements

Proposed Requirement 1: Coordination of Activities

We propose that recipients of a grant under the Grants for the Integration of Schools and Mental Health Systems program be required to coordinate project activities with projects funded under the Department of Health and Human Services' Substance Abuse and Mental Health Services Administration's Mental Health Transformation State Infrastructure Grants (MHTSIG) program (CFDA 93.243), if a grantee's State receives a MHTSIG award. If a recipient of a grant under the Grants for the Integration of Schools and Mental Health Systems program has received or receives a grant under the Department of Education's Emergency Response and Crisis Management (ERCM) program (CFDA 84.184E), the recipient must coordinate mental health service activities under this grant with those planned under its ERCM grant. Projects funded by this program must complement, rather than duplicate, existing or ongoing efforts.

Proposed Requirement 2: Safe Schools/Healthy Students Recipients Excluded From Receiving Awards

We propose that former or current recipients under the Safe Schools/Healthy Students program (CFDA 84.184L) will not be eligible to receive a Grant for the Integration of Schools and Mental Health Systems program. Recipients of Safe Schools/Healthy Students awards are responsible for completing a scope of work under that program that is very similar to the activities required under the Grants for the Integration of Schools and Mental Health Systems program. By restricting the applicant pool to eliminate former or current grantees under the Safe Schools/Healthy Students program, we will be able to focus Federal funds on entities that have not yet received Federal support to develop and implement strong linkages with other entities in their communities for the provision of mental health services to students.

Applicants may compete for both the Grants for the Integration of Schools and Mental Health Systems and Safe Schools/Healthy Students programs in the same year; if applicants are deemed eligible for funding in both grant competitions, the applicant will receive the larger and more comprehensive of the awards.

Proposed Requirement 3: Preliminary Interagency Agreement

We propose that applicants for an award under the Grants for the Integration of Schools and Mental Health Systems program develop and submit with their applications a preliminary interagency agreement (IAA). The IAA must contain the signatures of an authorized representative of at least (1) One or more State or local educational agencies or Indian tribes; (2) one or more juvenile justice authorities; and (3) one or more State or local public mental health agencies. This preliminary IAA would confirm the commitment of these partners to complete the work under the proposed project, if funded. If funded, recipients will complete a final IAA as required by section 5541(e) of the Elementary and Secondary Education Act of 1965, as amended (ESEA). The final IAA must be completed and submitted to us, signed by all parties, no later than 12 months after the award date.

Applications that do not include the proposed preliminary IAA with all of the required signatures would be rejected and not considered for funding.

Proposed Requirement 4: Inclusion of Parental Consent Considerations in Final IAA

We propose that the final Interagency Agreement (IAA) include a description of policies and procedures that would ensure appropriate parental or caregiver consent for any planned services, pursuant to State or local laws or other requirements.

Proposed Requirement 5: Provision of Direct Services

We propose that grant funds under this program not be used to provide direct services to students.

Executive Order 12866

This notice of proposed requirements has been reviewed in accordance with Executive Order 12866. Under the terms of the order, we have assessed the potential costs and benefits of this regulatory action.

The potential costs associated with the notice of proposed requirements are those resulting from statutory requirements and those we have determined as necessary for administering this program effectively and efficiently.

In assessing the potential costs and benefits—both quantitative and qualitative—of this notice of proposed requirements, we have determined that the benefits of the proposed requirements justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.215M)

Program Authority: 20 U.S.C. 7269.

Dated: March 6, 2006.
Deborah A. Price,
Assistant Deputy Secretary for Safe and Drug-Free Schools.

[FR Doc. E6-3362 Filed 3-8-06; 8:45 am]

BILLING CODE 4000-01-P